DEPARTMENT OF HEALTH AND HUMAN SERVICES

Food and Drug Administration

21 CFR Parts 201, 211, and 601

[Docket No. 02N-0204]

Bar Code Label Requirements for Human Drug Products; Notice of Public Meeting; Correction

AGENCY: Food and Drug Administration, HHS.

ACTION: Notice of public meeting; correction.

SUMMARY: The Food and Drug Administration (FDA) is correcting a document that appeared in the Federal Register of June 18, 2002 (67 FR 41360). The document announced a public meeting to solicit comments for the development of a regulation on bar code labeling for human drug products, including biologic products. The document published with two date errors in the SUPPLEMENTARY INFORMATION section. This document corrects those errors.

DATES: The public meeting will be held on July 26, 2002, from 9 a.m. to 5 p.m. Registration to attend the meeting must be received by July 12, 2002. Submit written or electronic comments for consideration during the meeting by July 12, 2002.

ADDRESSES: The meeting will be held at the Natcher Auditorium, Bldg. 45, National Institutes of Health (NIH), Bethesda, MD. Parking will be limited and there may be delays entering the NIH campus due to increased security. We recommend arriving by Metro if possible. NIH is accessible from the Metro's red line at the Medical Center/NIH stop.

FOR FURTHER INFORMATION CONTACT: Doris Tucker, Office of Policy, Planning, and Legislation (HF-27), Food and Drug Administration, 5600 Fishers Lane, Rockville, MD 20857, 301-827-7010.

SUPPLEMENTARY INFORMATION: In FR Doc. 02-15208 appearing on page 41360 in the Federal Register of Tuesday, June 18, 2002, the following corrections are made:

1. On page 41360 in the second column, in the eighth and ninth lines, the Internet site is corrected to read: http://www.fda.gov/oc/meetings/barcodemtg.html.

2. On page 41361 in the first column, under II. Scope of Discussion, in the first sentence the date “June 13, 2002,” is corrected to read: “July 26, 2002,”.

3. On page 41361 in the third column, under IV. Transcripts, in the last sentence the date “June 28, 2002,” is corrected to read: “August 16, 2002,”.

Dated: June 18, 2002.
Margaret M. Dotzel,
Associate Commissioner for Policy.

[FR Doc. 02-16049 Filed 6-25-02; 8:45 am]

BILLING CODE 4160-01-S